DEPARTMENT OF ENERGY

Federal Energy Regulatory Commission

[Docket No. RP02-4-002]

Maritimes & Northeast Pipeline L.L.C.; Notice of Compliance Filing

October 1, 2002.

Take notice that on September 26, 2002, Maritimes & Northeast Pipeline, L.L.C. (Maritimes) tendered for filing as part of its FERC Gas Tariff, First Revised Volume No. 1, First Revised Sheet No. 243, First Rev First Revised Sheet No. 265, and First Rev First Revised Sheet No. 295, to become effective on November 1, 2002.

In compliance, Maritimes proposes to revise its Index Price consistently throughout its tariff to be calculated as the monthly average of the Platts Gas Daily, Midpoint, Tennessee Zone 6 (delivered) price, less the 100% load factor Rate Schedule MN365 maximum recourse rate. The following sections of the General Terms & Conditions of Maritimes' FERC Gas Tariff, First Revised Volume No. 1, have been revised to reflect this Index Price: (i) Section 11.6(c) (Balancing, Index Price); (ii) Section 20.4 (Fuel Retainage Quantity, True Up); and (iii) Section 8.7 (Curtailment, Compensation).

Maritimes states that copies of this filing were mailed to all affected customers of Maritimes and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-25545 Filed 10-7-02; 8:45 am]

BILLING CODE 6717-01-P